DEPARTMENT OF AGRICULTURE

Grain Inspection, Packers and Stockyards Administration

Designation for the Owensboro (KY), Bloomington (IL), Iowa Falls (IA), Casa Grande (AZ), Fargo (ND), Grand Forks (ND), Plainview (TX), and Amarillo (TX) Areas

AGENCY: Grain Inspection, Packers and Stockyards Administration, USDA.

ACTION: Notice.

SUMMARY: We are announcing designation of the following organizations to provide official services under the United States Grain Standards Act, as amended (USGSA): J.W. Barton Grain Inspection Service, Inc. (Barton); Central Illinois Grain Inspection, Inc. (Central Illinois); Central Iowa Grain Inspection Service, Inc. (Central Iowa); Farwell Commodity and Grain Services, Inc. (Farwell Southwest); North Dakota Grain Inspection Service, Inc. (North Dakota); Northern Plains Grain Inspection Service, Inc. (Northern Plains); and Plainview Grain Inspection and Weighing Service, Inc. (Plainview). We are also announcing the amendment of designated geographic areas for California Agri Inspection Company, Ltd. (California Agri) and Enid Grain Inspection Company, Inc. (Enid).

DATES: Effective April 1, 2008.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications will be available for public inspection at the office above during regular business hours (7 CFR 1.27(b)).

SUPPLEMENTARY INFORMATION: In the September 4, 2007, Federal Register (72 FR 50654), we requested applications for designation to provide official services in the geographic areas assigned to the official agencies named above. GIPSA also asked for applicants in the north central Texas region as Amarillo Grain Exchange, Inc. (Amarillo), requested that GIPSA amend their designation by removing 19 counties from their assigned geographic area. Applications were due by October 4, 2007.

Barton, Central Illinois, Central Iowa, North Dakota, Northern Plains and Plainview were the sole applicants for designation to provide official services in the entire area currently assigned to them, so GIPSA did not ask for additional comments on them.

Farwell Southwest applied for part of the area currently assigned to them; Maricopa, Pinal, Santa Cruz, and Yuma Counties, Arizona. California Agri Inspection Company, Ltd., a currently designated official agency, applied for designation in specific counties designated to Farwell Southwest. California Agri provides service in these California counties through an agreement with Farwell Southwest: Merced, Madera, Fresno, Kings, Tulare, Inyo, San Luis Obispo, Kern, Orange, Los Angeles, Ventura, Santa Barbara, and San Bernardino.

Plainview and Enid, both currently designated official agencies, applied for designation in specific counties designated to Amarillo. Plainview applied for designation in Cottle, Hardeman, King, Knox, Baylor, Archer, Stonewall, Haskell, Throckmorton, Fisher, Jones, Shackelford, Nolan, Taylor, Foard, and Callahan counties, Texas. Enid applied for designation in Clay, Wichita, and Wilbarger counties, Texas.

In the December 3, 2007 Federal Register (72 FR 67884), we requested comments on the applications for designation to provide official services in the geographic areas assigned to Amarillo and Farwell Southwest. Comments were due by January 2, 2008.

GIPSA received no comments.

We evaluated all available information regarding the designation criteria in Section 7(f)(l) of USGSA (7 U.S.C. 79(f)) and determined that Barton, California Agri, Central Illinois, Central Iowa, Enid, Farwell Southwest, North Dakota, Northern Plains, and Plainview, are able to provide official services in the geographic areas specified in the September 4, 2007, Federal Register, for which they applied. These designation actions to provide official services are effective April 1, 2008, and terminate March 31, 2011, for Barton, Central Illinois, Central Iowa, Farwell Southwest, North Dakota, Northern Plains and Plainview. For California Agri and Enid, the designation to provide official services runs concurrently with their present designations. Interested persons may obtain official services by calling the telephone numbers listed below.

Official agency | Headquarters location and telephone | Designation start-end
Barton | Owensboro, KY, 270-683-0616 Additional Location: Clarksville, IN | 4/1/2008-3/31/2011
Central Illinois | Bloomington, IL, 309-827-7121 Additional Location: Pekin, IL | 4/1/2008-3/31/2011
Central Iowa | Iowa Falls, IA, 641-648-3467 Additional Location: Des Moines, IA | 4/1/2008-3/31/2011
Farwell Southwest | Casa Grande, AZ, 520-421-1027 Additional Location: Brawley, CA | 4/1/2008-3/31/2011
North Dakota | Fargo, ND, 701-293-7420 Additional Locations: Ayr, Casselton, Enderlin, Hillsboro, Taylor, and Valley City, ND; and Cahokia, Teutopolis, and Wayne City, IL | 4/1/2008-3/31/2011
Northern Plains | Grand Forks, ND, 701-772-2414 Additional Location: Devil's Lake, ND | 4/1/2008-3/31/2011
Plainview | Plainview, TX, 806-293-1364 | 4/1/2008-3/31/2011
California Agri | West Sacramento, CA, 916-374-9700 Additional Locations: Corcoran and Stockton, CA | 1/1/2007-12/31/2009
Enid | Enid, OK, 580-233-1121 Additional Location: Catoosa, OK | 4/1/2007-3/31/2010

Section 7(f)(1) of the USGSA, authorizes GIPSA's Administrator to designate a qualified applicant to provide official services in a specified area after determining that the applicant is better able than any other applicant to provide such official services (7 U.S.C. 79(f)(1)).

Section 7(g)(1) of USGSA provides that designations of official agencies will terminate not later than three years and may be renewed according to the criteria and procedures prescribed in Section 7(f) of USGSA.

Authority: 7 U.S.C. 71-87k.

James E. Link,
Administrator, Grain Inspection, Packers and Stockyards Administration.

[FR Doc. E8-3978 Filed 2-29-08; 8:45 am]

BILLING CODE 3410-KD-P